DEPARTMENT OF HOMELAND SECURITY

Federal Emergency Management Agency

[Docket ID FEMA-2016-0002; Internal Agency Docket No. FEMA-B-1655]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before February 27, 2017.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1655, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: November 16, 2016.
Roy E. Wright,
Deputy Associate Administrator for Insurance and Mitigation, Department of Homeland Security, Federal Emergency Management Agency.

I. Watershed-based studies:

Community | Community map repository address
Wheeler Lake Watershed
Maps Available for Inspection Online at: http://www.fema.gov/preliminaryfloodhazarddata
Lauderdale County, Alabama and Incorporated Areas
Unincorporated Areas of Lauderdale County | Lauderdale County Road Department, 1630 State Street, Florence, AL 35630.
Lawrence County, Alabama and Incorporated Areas
Town of Hillsboro | Town Hall, 11355 Main Street, Hillsboro, AL 35643.
Unincorporated Areas of Lawrence County | Lawrence County Engineering Department, 160 Parker Road, Moulton, AL 35650.
Limestone County, Alabama and Incorporated Areas
City of Athens | Engineering and Community Development Department, 1600 Elm Street West, Athens, AL 35611.
City of Decatur | Building Department, 402 Lee Street Northeast, 4th Floor, Decatur, AL 35601.
City of Huntsville | City Hall, 308 Fountain Circle, Huntsville, AL 35801.
City of Madison | Engineering Department, 100 Hughes Road, Madison, AL 35758.
Town of Ardmore | Town Hall, 26494 1st Street, Ardmore, AL 35739.
Town of Mooresville | Limestone County Engineering Department, 310 West Washington Street, Athens, AL 35611.
Unincorporated Areas of Limestone County | Limestone County Engineering Department, 310 West Washington Street, Athens, AL 35611.
Madison County, Alabama and Incorporated Areas
City of Huntsville | City Hall, 308 Fountain Circle, Huntsville, AL 35801.
City of New Hope | City Hall, 5496 Main Drive, New Hope, AL 35760.
Town of Triana | Town Hall, 640 6th Street, Triana, AL 35756.
Unincorporated Areas of Madison County | Madison County Department of Public Works, Engineering Department, 266-C Shields Road, Huntsville, AL 35811.
Marshall County, Alabama and Incorporated Areas
Unincorporated Areas of Marshall County | Marshall County Courthouse, 424 Blount Avenue, Guntersville, AL 35976.
Morgan County, Alabama and Incorporated Areas
City of Decatur | Building Department, 402 Lee Street Northeast, 4th Floor, Decatur, AL 35601.
City of Hartselle | City Hall, 200 Sparkman Street Northwest, Hartselle, AL 35640.
Town of Falkville | Town Hall, 21 North 1st Avenue, Falkville, AL 35622.
Town of Priceville | Town Hall, 242 Marco Drive, Priceville, AL 35603.
Town of Somerville | Town Hall, 24 High Street, Somerville, AL 35670.
Town of Trinity | Town Hall, 35 Preston Drive, Trinity, AL 35673.
Unincorporated Areas of Morgan County | Morgan County Engineer's Office, 580 Shull Road Northeast, Hartselle, AL 35640.
Upper Chattahoochee Watershed
Maps Available for Inspection Online at: http://www.fema.gov/preliminaryfloodhazarddata
Dawson County, Georgia and Incorporated Areas
City of Dawsonville | City Hall, 415 Highway 53 East, Suite 100, Dawsonville, GA 30534.
Unincorporated Areas of Dawson County | Dawson County Planning and Development Department, 25 Justice Way, Suite 2322, Dawsonville, GA 30534.
Hall County, Georgia and Incorporated Areas
City of Buford | City Hall, 2300 Buford Highway, Buford, GA 30518.
City of Flowery Branch | City Hall, 5517 Main Street, Flowery Branch, GA 30542.
City of Gainesville | Department of Water Resources Administration Building, 757 Queen City Parkway, Southwest, Gainesville, GA 30501.
City of Lula | City Hall, 6055 Main Street, Lula, GA 30554.
City of Oakwood | City Hall, 4035 Walnut Circle, Oakwood, GA 30566.
Town of Clermont | Town Hall, 109 King Street, Clermont, GA 30527.
Unincorporated Areas of Hall County | Hall County Government Center, Engineering Division, 2875 Browns Bridge Road, 3rd Floor, Gainesville, GA 30504.
Lumpkin County, Georgia and Incorporated Areas
City of Dahlonega | City Hall, 465 Riley Road, Dahlonega, GA 30533.
Unincorporated Areas of Lumpkin County | Lumpkin County Planning and Public Works Department, 25 Short Street, Suite 10, Dahlonega, GA 30533.

II. Non-watershed-based studies:

Community | Community map repository address
DeSoto County, Mississippi and Incorporated Areas
Maps Available for Inspection Online at: http://www.fema.gov/preliminaryfloodhazarddata
Project: 14-04-A051S Preliminary Date: August 28, 2015
Town of Walls | Town Hall, 9087 Nail Road, Walls, MS 38680.
Unincorporated Areas of DeSoto County | DeSoto County Geographic Information Systems, 365 Losher Street, Suite 350, Hernando, MS 38632.
Blair County, Pennsylvania (All Jurisdictions)
Maps Available for Inspection Online at: http://www.fema.gov/preliminaryfloodhazarddata
Project: 16-03-0712S Preliminary Date: April 7, 2016
Borough of Tyrone | Administrative Office, 1100 Logan Avenue, Tyrone, PA 16686.
Township of Snyder | Municipal Building, 108 Baughman Hollow Road, Tyrone, PA 16686.
Township of Tyrone | Community Map Repository, 237 Burket Road, Tyrone, PA 16686.
Huntingdon County, Pennsylvania (All Jurisdictions)
Maps Available for Inspection Online at: http://www.fema.gov/preliminaryfloodhazarddata
Project: 16-03-0713S Preliminary Date: April 7, 2016
Borough of Birmingham | Birmingham Borough Map Repository, 4545 Meadow Wood Lane, Warriors Mark, PA 16877.
Township of Morris | Morris Township Office, 4077 Shaffersville Road, Alexandria, PA 16611.
Township of Spruce Creek | Spruce Creek Township Map Repository Huntingdon County Annex Building, Planning and Development Department, 205 Penn Street, Suite 3, Huntingdon, PA 16652.
Township of Warriors Mark | Township Office, 4571 Firehouse Road, Warriors Mark, PA 16877.
Cameron County, Texas and Incorporated Areas
Maps Available for Inspection Online at: http://www.fema.gov/preliminaryfloodhazarddata
Project: 05-06-A027S Preliminary Date: June 4, 2015
Town of Rangerville | Harlingen Irrigation District, 301 East Pierce Avenue, Harlingen, TX 78550.

[FR Doc. 2016-28530 Filed 11-25-16; 8:45 am]

BILLING CODE 9110-12-P